DEPARTMENT OF THE INTERIOR

Office of Natural Resources Revenue

[Docket No. ONRR-2011-0012; DS63644000 DRT000000.CH7000 212D1113RT]

Major Portion Prices and Due Date for Additional Royalty Payments on Gas Produced From Indian Lands in Designated Areas That Are Not Associated With an Index Zone

AGENCY: Office of Natural Resources Revenue, Interior.

ACTION: Notice.

SUMMARY: In accordance with regulations governing valuation of gas produced from Indian lands, the Office of Natural Resources Revenue (ONRR) is publishing this notice in the Federal Register of the major portion prices applicable to calendar year 2019 and the date by which a lessee must report and pay any additional royalties due under major portion pricing.

DATES: The due date to pay additional royalties based on the major portion prices is May 31, 2021.

FOR FURTHER INFORMATION CONTACT: For questions regarding major portion prices, contact Robert Sudar, Market & Spatial Analytics, at (303) 231-3511 or email to Robert.Sudar@onrr.gov. For questions regarding royalty reporting and payment, contact Lee-Ann Martin, Reference & Reporting Management, at (303) 231-3313 or email to Leeann.Martin@onrr.gov.

SUPPLEMENTARY INFORMATION: Pursuant to 30 CFR 1206.174(a)(4)(ii), ONRR must publish major portion prices for each designated area that is not associated with an index zone for each production month, as well as the due date to submit any additional royalty payments. If a lessee owes additional royalties, it must submit an amended form ONRR-2014, Report of Sales and Royalty Remittance to ONRR and pay the additional royalties due by the due date. If a lessee fails to timely pay the additional royalties, late payment interest begins to accrue pursuant to 30 CFR 1218.54. The interest will accrue from the due date until ONRR receives payment.

The table below lists major portion prices for all designated areas that are not associated with an index zone. The due date to pay additional royalties based on the major portion prices is May 31, 2021.

Gas Major Portion Prices ($/MMBtu) for Designated Areas Not Associated With an Index Zone
ONRR-designated areas | Jan 2019 | Feb 2019 | Mar 2019 | Apr 2019 | May 2019 | Jun 2019 | Jul 2019 | Aug 2019 | Sep 2019 | Oct 2019 | Nov 2019 | Dec 2019
Blackfeet Reservation | $1.63 | $2.34 | $2.12 | $0.76 | $1.34 | $0.56 | $1.08 | $0.74 | $0.60 | $1.68 | $2.22 | $1.91
Fort Berthold Reservation | 3.48 | 2.37 | 2.47 | 2.02 | 1.96 | 1.67 | 1.55 | 1.52 | 1.49 | 1.57 | 2.06 | 2.10
Fort Peck Reservation | 4.44 | 3.17 | 2.74 | 2.36 | 2.03 | 2.04 | 1.56 | 1.77 | 1.62 | 1.76 | 2.38 | 2.54
Navajo Allotted Leases in the Navajo Reservation | 3.25 | 2.78 | 2.21 | 1.27 | 1.28 | 1.52 | 1.78 | 1.76 | 1.77 | 1.54 | 2.11 | 2.35
Turtle Mountain Reservation | 3.28 | 2.17 | 1.81 | 1.48 | 1.22 | 1.26 | 1.55 | 1.53 | 1.41 | 1.52 | 2.06 | 1.72

For information on how to report additional royalties due to major portion prices, please refer to ONRR's Dear Payor letter, dated December 1, 1999, which is available at https://www.onrr.gov/ReportPay/PDFDocs/991201.pdf.

Authority: Indian Mineral Leasing Act, 25 U.S.C. 396a-g and the Act of March 3, 1909, 25 U.S.C. 396; Indian Mineral Development Act of 1982, 25 U.S.C. 2103 et seq.

Kimbra G. Davis,
Director for Office of Natural Resources Revenue.

[FR Doc. 2021-07092 Filed 4-6-21; 8:45 am]

BILLING CODE 4335-30-P